DEPARTMENT OF STATE

Office of Defense Trade Controls

[Public Notice 3650]

Notifications to the Congress of Proposed Commercial Export Licenses

AGENCY: Department of State.

ACTION: Notice.

SUMMARY: Notice is hereby given that the Department of State has forwarded the attached Notifications of Proposed Export Licenses to the Congress on the dates shown on the attachments pursuant to section 36(c) and 36(d) and in compliance with section 36(e) of the Arms Export Control Act (22 U.S.C. 2776).

EFFECTIVE DATE: As shown on each of the twenty-four letters.

FOR FURTHER INFORMATION CONTACT: Mr. William J. Lowell, Director, Office of Defense Trade Controls, Bureau of Political-Military Affairs, Department of State (202 663-2700).

SUPPLEMENTARY INFORMATION: Section 38(e) of the Arms Export Control Act mandates that notifications to the Congress pursuant to section 36(c) must be published in the Federal Register when they are transmitted to Congress or as soon thereafter as practicable.

Dated: April 16, 2001.
William J. Lowell,
Director, Office of Defense Trade Controls, Department of State.

The Honorable J. Dennis Hastert, Speaker of the House of Representatives.

April 4, 2001.

Dear Mr. Speaker:

Pursuant to Section 36(c) and (d) of the Arms Export Control Act, I am transmitting herewith certification of a proposed Manufacturing License Agreement with the Republic of Korea.

The transaction described in the attached certification involves the manufacture of Multiple Launch Rocket System (MLRS) M26A2 rocket pods with extended range rockets and M77 submunitions for use by the Republic of Korea.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 132-00

The Honorable J. Dennis Hastert, Speaker of the House of Representatives.

March 21, 2001.

Dear Mr. Speaker:

Pursuant to Section 36 (d) of the Arms Export Control Act, I am transmitting herewith certification of a proposed Manufacturing License Agreement with Greece.

The transaction described in the attached certification involves the transfer of technical data and assistance in the manufacture of upgrades to the TOW weapon system for end use by the Hellenic Army.

The United States Government is prepared to license the export of these items having taken into account political, military, economic, human rights, and arms control considerations.

More detailed information is contained in the formal certification which, though unclassified, contains business information submitted to the Department of State by the applicant, publication of which could cause competitive harm to the United States firm concerned.

Sincerely,

Michael A. Guest,

Acting Assistant Secretary, Legislative Affairs.

Enclosure: Transmittal No. 002-01

The Honorable J. Dennis Hastert, Speaker of the House of Representatives.

March 21, 2001.

Dear Mr. Speaker:

Pursuant to Section 36(c) of the Arms Export Control Act, I am transmitting herewith certification of a proposed license for the export of defense articles or defense services sold commercially under a contract in the amount $50,000,000 or more.

The transaction contained in the attached certification involves the export of four (4) MK15 MOD12 Phalanx Close-In-Weapon systems with 20mm guns for vessels, type Destroyer (DD) and type LST to the Government of Japan for use by the Japan Defense Agency.

The United States Government is prepared to license the export of these items having taken into account political, military, economic, human rights, and arms control considerations.

More detailed information is contained in the formal certification which, though unclassified, contains business information submitted to the Department of State by the applicant, publication of which could cause competitive harm to the United States firm concerned.

Sincerely,

Michael A. Guest,

Acting Assistant Secretary, Legislative Affairs.

Enclosure: Transmittal No. DTC 003-01

The Honorable J. Dennis Hastert, Speaker of the House of Representatives.

March 21, 2001.

Dear Mr. Speaker:

Pursuant to Section 36(c) of the Arms Export Control Act, I am transmitting herewith certification of a proposed license for the export of defense articles or defense services sold commercially under a contract in the amount $50,000,000 or more.

The transaction contained in the attached certification involves the export of unclassified hardware to Germany for incorporation into the Eurofighter 2000 center fuselage.

The United States Government is prepared to license the export of these items having taken into account political, military, economic, human rights, and arms control considerations.

More detailed information is contained in the formal certification which, though unclassified, contains business information submitted to the Department of State by the applicant, publication of which could cause competitive harm to the United States firm concerned.

Sincerely,

Michael A. Guest,

Acting Assistant Secretary, Legislative Affairs.

Enclosure: Transmittal No. DTC 004-01

The Honorable J. Dennis Hastert, Speaker of the House of Representatives.

March 21, 2001.

Dear Mr. Speaker:

Pursuant to Section 36(c) of the Arms Export Control Act, I am transmitting herewith certification of a proposed license for the export of defense articles or defense services sold commercially under a contract in the amount $50,000,000 or more.

The transaction contained in the attached certification involves launch services for the Hispasat-1D communications satellite on an Atlas IIAS launch vehicle from Cape Canaveral, Florida. The satellite will provide commercial communications services as well as communications services for the Spanish Ministry of Defense.

The United States Government is prepared to license the export of these items having taken into account political, military, economic, human rights, and arms control considerations.

More detailed information is contained in the formal certification which, though unclassified, contains business information submitted to the Department of State by the applicant, publication of which could cause competitive harm to the United States firm concerned.

Sincerely,

Michael A. Guest,

Acting Assistant Secretary, Legislative Affairs.

Enclosure: Transmittal No. DTC 005-01

The Honorable J. Dennis Hastert, Speaker of the House of Representatives.

March 26, 2001.

Dear Mr. Speaker:

Pursuant to Section 36(c) and (d) of the Arms Export Control Act, I am transmitting herewith certification of a proposed license for the export of defense articles or defense services sold commercially under a contract in the amount $50,000,000 or more.

The transaction contained in the attached certification involves the export of defense services and technical data to support the manufacture of F100-PW-229/-229A Engine Parts in Norway for F-16 Aircraft.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 007-01

The Honorable J. Dennis Hastert, Speaker of the House of Representatives.

April 6, 2001.

Dear Mr. Speaker:

Pursuant to Section 36(c) of the Arms Export Control Act, I am transmitting, herewith, certification of a proposed license for the export of defense articles or defense services sold commercially under a contract in the amount of $50,000,000 or more.

The transaction contained in the attached certification involves the export to Canada of know-how sufficient for the performance of depot level support for the AN/APG-65 radar for end use by the Government of Canada (Canadian CF-18 Aircraft) and Commonwealth of Australia (Australian F/A-18 Aircraft).

The United States Government is prepared to license the export of these items having taken into account political, military, economic, human rights, and arms control considerations.

More detailed information is contained in the formal certification which, though unclassified contains business information submitted to the Department of State by the applicant, publication of which could cause competitive harm to the United States firm concerned.

Sincerely,

Michael E. Guest,

Acting Assistant Secretary, Legislative Affairs.

Enclosure: Transmittal No. DTC 008-01

The Honorable J. Dennis Hastert, Speaker of the House of Representatives.

April 6, 2001.

Dear Mr. Speaker:

Pursuant to Section 36 (d) of the Arms Export Control Act, I am transmitting herewith certification of a proposed Manufacturing License Agreement with Japan.

The transaction described in the attached certification involves the transfer of technical data and assistance in the manufacture and overhaul of Propellant Actuated Devices (PAD) utilized in the Crew Escape Systems for the F-15, FS-X, and F-2 Aircraft for end use by the Japanese Defense Agency.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. 010-01

The Honorable J. Dennis Hastert, Speaker of the House of Representatives.

April 6, 2001.

Dear Mr. Speaker:

Pursuant to Section 36(c) & (d) of the Arms Export Control Act, I am transmitting herewith certification of a proposed license for defense articles and defense services in the amount of $50,000,000.

The transaction described in the attached certification involves the of technical data and assistance for the joint design, development, and manufacture of new and existing rounds of military ordnance in the 20mm to 40mm range of Medium Caliber Ammunition for end-use in the United States and Norway.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 013-01

The Honorable J. Dennis Hastert, Speaker of the House of Representatives.

April 6, 2001.

Dear Mr. Speaker:

Pursuant to Section 36(d) of the Arms Export Control Act, I am transmitting herewith certification of a proposed Manufacturing License Agreement with Italy.

The transaction described in the attached certification involves the transfer of technical data and assistance in the manufacture of TOW Missile Gyroscopes. The Gyroscopes will be for end use in the United States and Italy.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. 014-01

The Honorable J. Dennis Hastert, Speaker of the House of Representatives.

April 6, 2001.

Dear Mr. Speaker:

Pursuant to Section 36(d) of the Arms Export Control Act, I am transmitting herewith certification of a proposed Manufacturing License Agreement with France.

The transaction described in the attached certification involves the transfer of technical data and assistance in the manufacture of a vehicle-based biological agent detection lab. The vehicle-based biological agent detection labs will be for end use by the French Ministry of Defense.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. 015-01

The Honorable J. Dennis Hastert, Speaker of the House of Representatives.

April 6, 2001.

Dear Mr. Speaker:

Pursuant to Section 36(c) of the Arms Export Control Act, I am transmitting herewith certification of a proposed license for the export of defense articles or defense services sold commercially under a contract in the amount $50,000,000 or more.

The transaction contained in the attached certification involves the manufacture of components and spare parts for the ALQ-88AK Electronic Countermeasure System in the Republic of Korea.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 016-01

The Honorable J. Dennis Hastert, Speaker of the House of Representatives.

March 21, 2001.

Dear Mr. Speaker:

Pursuant to Section 36(c) of the Arms Export Control Act, I am transmitting herewith certification of a proposed license for the export of defense articles or defense services sold commercially under a contract in the amount $50,000,000 or more.

The transaction contained in the attached certification involves the export to Luxembourg of the ASTRA 3A commercial communications satellite and associated ground systems, training and customer operations support. The transaction also includes launch operations support in French Guiana.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 020-01

The Honorable J. Dennis Hastert, Speaker of the House of Representatives.

March 21, 2001.

Dear Mr. Speaker:

Pursuant to Section 36(c)&(d) of the Arms Export Control Act, I am transmitting, herewith, certification of a proposed Technical Assistance Agreement with Canada, Australia and New Zealand.

The transaction described in the attached certification involves the transfer of technical data and defense services to Australia for the establishment of a LAV-25 turret production and assembly facility in support of Canadian, Australian and New Zealand LAV-25 programs.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 021-01

The Honorable J. Dennis Hastert, Speaker of the House of Representatives.

March 21, 2001.

Dear Mr. Speaker:

Pursuant to Section 36(c) and (d) of the Arms Export Control Act, I am transmitting, herewith, certification of a proposed Technical Assistance Agreement with Israel.

The transaction described in the attached certification involves the transfer of technical data and defense services to Israel for the manufacture, assembly and repair of the H-764G Inertial Navigation System for various fixed wing and rotary aircraft used by the Israeli Ministry of Defense.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 022-01

The Honorable J. Dennis Hastert, Speaker of the House of Representatives.

March 21, 2001.

Dear Mr. Speaker:

Pursuant to Section 36(c) of the Arms Export Control Act, I am transmitting, herewith, certification of a proposed license for the export of defense articles or defense services sold commercially under a contract in the amount $50,000,000 or more.

The transaction contained in the attached certification involves the manufacture in Japan of Strapdown Inertial Systems for an additional ten years for the Japan Defense Agency's ASM and Cruising Target Drone Programs.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 024-01

The Honorable J. Dennis Hastert, Speaker of the House of Representatives.

March 21, 2001.

Dear Mr. Speaker:

Pursuant to Section 36(c) of the Arms Export Control Act, I am transmitting, herewith, certification of a proposed license for the export of defense articles or defense services sold commercially under a contract in the amount $50,000,000 or more.

The transaction contained in the attached certification involves the manufacture in Japan of aircraft wheel and brake components for the Japanese Defense Force.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 025-01

The Honorable J. Dennis Hastert, Speaker of the House of Representatives.

March 21, 2001.

Dear Mr. Speaker:

Pursuant to Section 36(d) of the Arms Export Control Act, I am transmitting, herewith, certification of a proposed Manufacturing License Agreement with the United Kingdom.

The transaction described in the attached certification involves the transfer of technical data and defense services to the United Kingdom for the design, development and manufacture of the Joint Services General Purpose Mask for the US Armed Forces.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 026-01

The Honorable J. Dennis Hastert, Speaker of the House of Representatives.

March 26, 2001.

Dear Mr. Speaker:

Pursuant to Section 36(c) of the Arms Export Control Act, I am transmitting, herewith, certification of a proposed license for the export of defense articles or defense services sold commercially under a contract in the amount $50,000,000 or more.

The transaction contained in the attached certification involves the export of technical data and assistance for the manufacture in Japan of UH-60 electrical components for the Japan Defense Agency.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 027-01

The Honorable J. Dennis Hastert, Speaker of the House of Representatives.

March 26, 2001.

Dear Mr. Speaker:

Pursuant to Section 36(c) of the Arms Export Control Act, I am transmitting herewith certification of a proposed license for the export of defense articles or defense services sold commercially under a contract in the amount $50,000,000 or more.

The transaction contained in the attached certification involves the export of defense services and technical data to support Enhanced Structural Repair of the F/A-18 Airframe, in Canada.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 029-01

The Honorable J. Dennis Hastert, Speaker of the House of Representatives.

March 26, 2001.

Dear Mr. Speaker:

Pursuant to Section 36(c) and (d) of the Arms Export Control Act, I am transmitting herewith certification of a proposed license for the export of defense articles or defense services sold commercially under a contract in the amount $50,000,000 or more.

The transaction contained in the attached certification involves the export of defense services and technical data for the manufacture of the JFC-115 Fuel Control Units, in Japan.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 030-01

The Honorable J. Dennis Hastert, Speaker of the House of Representatives.

March 26, 2001.

Dear Mr. Speaker:

Pursuant to Section 36(c) and (d) of the Arms Export Control Act, I am transmitting herewith certification of a proposed license for the export of defense articles or defense services sold commercially under a contract in the amount $50,000,000 or more.

The transaction contained in the attached certification involves the export of defense services and technical data to support the manufacture of F100-PW-229/-229A Engine Parts in Belgium for F-16 Aircraft.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 031-01

The Honorable J. Dennis Hastert, Speaker of the House of Representatives.

April 6, 2001.

Dear Mr. Speaker:

Pursuant to Section 36(c) of the Arms Export Control Act, I am transmitting herewith certification of a proposed license for the export of defense articles or defense services sold commercially under a contract in the amount $50,000,000 or more.

The transaction contained in the attached certification involves the manufacture of LN-39A Inertial Navigation Units for use on Italian and Brazilian AMX aircraft and Italian F-104 aircraft.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 035-01

April 2, 2001.

Dear Mr. Speaker:

Pursuant to Section 36(c) of the Arms Export Control Act, I am transmitting herewith certification of a proposed license for the export of defense articles or defense services sold commercially under a contract in the amount $50,000,000 or more.

The transaction contained in the attached certification involves ongoing activities associated with technical assistance agreements with Russia beyond those addressed in DTC 39-98, dated March 19, 1998, DTC 98-99, dated August 5, 1999, DTC 014-00, dated March 7, 2000, and DTC 034-01, dated March 1, 2001, providing for the marketing and sale of satellite launch services utilizing Proton rocket boosters and the performance of associated integration and launch services from Kazakhstan.

The United States Government is prepared to license the export of these items having taken into account political, military, economic, human rights, and arms control considerations.

More detailed information is contained in the formal certification which, though unclassified, contains business information submitted to the Department of State by the applicant, publication of which could cause competitive harm to the United States firm concerned.

Sincerely,

Michael E. Guest,

Acting Assistant Secretary, Legislative Affairs.

Enclosure: Transmittal No. DTC 046-01

The Honorable J. Dennis Hastert, Speaker of the House of Representatives.

[FR Doc. 01-10832 Filed 5-1-01; 8:45 am]

BILLING CODE 4710-25-U